DEPARTMENT OF STATE

[Public Notice 8422]

Culturally Significant Objects Imported for Exhibition Determination: “Heaven and Earth: Art of Byzantium From Greek Collections”

AGENCY: Department of State.

ACTION: Notice; correction.

SUMMARY: On August 7, 2013, notice was published on page 48216 of the Federal Register (volume 78, number 152) of the determinations made by the Department of State pertaining to the exhibition “Heaven and Earth: Art of Byzantium from Greek Collections.” The referenced notice is corrected here to include an additional venue for the exhibition. Notice is hereby given of the following determination: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and, as appropriate, Delegation of Authority No. 257 of April 15, 2003, I hereby determine that the exhibition or display of the objects to be included in the exhibition “Heaven and Earth: Art of Byzantium from Greek Collections,” at the Art Institute of Chicago, Chicago, Illinois, from on or about October 5, 2014, until on or about March 1, 2015, is in the national interest. I have ordered that Public Notice of this Determination be published in the Federal Register.

FOR FURTHER INFORMATION CONTACT: For further information, contact Paul W. Manning, Attorney-Adviser, Office of the Legal Adviser, U.S. Department of State (telephone: 202-632-6469). The mailing address is U.S. Department of State, SA-5, L/PD, Fifth Floor (Suite 5H03), Washington, DC 20522-0505.

Dated: August 9, 2013.
Lee A. Satterfield,
Deputy Assistant Secretary for Professional and Cultural Exchanges, Bureau of Educational and Cultural Affairs, Department of State.

[FR Doc. 2013-20124 Filed 8-15-13; 8:45 am]

BILLING CODE 4710-05-P